National Science Foundation

Advisory Committee for Education and Human Resources; Notice of Meeting

In accordance with the Federal Advisory Committee Act (Pub. L.92-463, as amended), the National Science Foundation announces the following meeting:

Name: Committee on the NSF Niche in K-16 Education, a subcommittee of the Advisory Committee for Education and Human Resources (#1119).

Date and Time: October 17, 2000; 1:30 p.m.-5:30 p.m.

Place: National Science Foundation, 4201 Wilson Boulevard, Room 1235 Arlington, VA 22230.

Type of Meeting: Open.

Contact Person: Dr. Daryl Chubin, NSB Senior Policy Officer, National Science Foundation, 4201 Wilson Boulevard, Room 1220, Arlington, VA 22230, Telephone: (703)292-7000.

Purpose of Meeting: To provide advice and recommendations to the Advisory Committee for Education and Human Resources.

Agenda: To discuss NSF's niche in K-16 Education.

Reason for Late Notice: Coordinating members of committee to accommodate meeting schedules. This meeting needs to be held before the Advisory Committee for Education and Human Resources meeting on November 8-9.

Dated: October 3, 2000.
Karen J. York,
Committee Management Officer.

[FR Doc. 00-25819 Filed 10-6-00; 8:45 am]

BILLING CODE 7555-01-M